NATIONAL CREDIT UNION ADMINISTRATION

Sunshine Act; Notice of Agency Meeting

TIME AND DATE: 8:30 a.m., Thursday, September 20, 2012.

PLACE: Board Room, 7th Floor, Room 7047, 1775 Duke Street, Alexandria, VA 22314-3428.

STATUS: Closed.

MATTERS TO BE CONSIDERED:

1. Creditor Claim Appeals (2). Closed pursuant to exemption (4).

2. Personnel (3). Closed pursuant to exemptions (2) and (6).

RECESS: 9:45 a.m.

TIME AND DATE: 10 a.m., Thursday, September 20, 2012.

PLACE: Board Room, 7th Floor, Room 7047, 1775 Duke Street (All visitors must use Diagonal Road Entrance), Alexandria, VA 22314-3428.

STATUS: Open.

MATTERS TO BE CONSIDERED:

1. NCUA's Rules and Regulations, Permissible Investments -Treasury Inflation Protected Securities.

2. NCUA's Rules and Regulations and Interpretive Ruling and Policy Statement 12-2, Regulatory Relief for Small Credit Unions.

3. NCUA's Rules and Regulations, Expanded Definition of “Rural District” for Field of Membership.

4. NCUA's Rules and Regulations, Payday-Alternative Loans.

FOR FURTHER INFORMATION CONTACT: Mary Rupp, Secretary of the Board, Telephone: 703-518-6304.

Mary Rupp,
Board Secretary.

[FR Doc. 2012-23009 Filed 9-14-12; 11:15 am]

BILLING CODE 7535-01-P